INTERNATIONAL TRADE COMMISSION

[Investigation Nos. 701-TA-549 and 731-TA-1299, 1300, 1302 and 1303 (Final)]

Circular Welded Carbon-Quality Steel Pipe From Oman, Pakistan, the United Arab Emirates, and Vietnam; Determinations

On the basis of the record ¹ developed in the subject investigations, the United States International Trade Commission (“Commission”) determines, pursuant to the Tariff Act of 1930 (“the Act”), that an industry in the United States is materially injured by reason of imports of circular welded carbon-quality steel pipe (“CWP”) from Oman, Pakistan, and the United Arab Emirates provided for in subheadings 7306.19.10, 7306.19.51, 7306.30.10, 7306.30.50, 7306.50.10, and 7306.50.50 of the Harmonized Tariff Schedule of the United States, that have been found by the Department of Commerce (“Commerce”) to be sold in the United States at less than fair value (“LTFV”).² The Commission further determines that imports of CWP from Vietnam that have been found by Commerce to be sold in the United States at LTFV and imports of CWP from Pakistan that are subsidized by the government of Pakistan are negligible pursuant to section 771(24) of the Act (19 U.S.C. 1677(24)), and its investigations with regard to these imports are thereby terminated pursuant to sections 705(b) and 735(b) of the Act.

¹ The record is defined in sec. 207.2(f) of the Commission's Rules of Practice and Procedure (19 CFR 207.2(f)).

² Commissioners Dean A. Pinkert, Meredith M. Broadbent, and F. Scott Kieff dissenting with respect to LTFV imports from Pakistan.

Background

The Commission, pursuant to sections 705(b) and 735(b) of the Act (19 U.S.C. 1671d(b) and 19 U.S.C. 1673d(b)), instituted these investigations effective October 28, 2015, following receipt of a petition filed with the Commission and Commerce by Bull Moose Tube Company (Chesterfield, Missouri), EXLTUBE (N. Kansas City, Missouri), Wheatland Tube (Chicago, Illinois), and Western Tube and Conduit (Long Beach, California). The final phase of the investigations was scheduled by the Commission following notification of preliminary determinations by Commerce regarding the subsidization of imports of CWP from Pakistan within the meaning of section 703(b) of the Act (19 U.S.C. 1671b(b)) and sales at LTFV of imports of CWP from Oman, Pakistan, the United Arab Emirates, and Vietnam within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 27, 2016 (81 FR 41592). The hearing was held in Washington, DC, on October 13, 2016, and all persons who requested the opportunity were permitted to appear in person or by counsel.

The Commission made these determinations pursuant to sections 705(b) and 735(b) of the Act (19 U.S.C. 1671d(b) and 19 U.S.C. 1673d(b)). It completed and filed its determinations in these investigations on December 12, 2016. The views of the Commission are contained in USITC Publication 4651 (December 2016), entitled Circular Welded Carbon-Quality Steel Pipe from Oman, Pakistan, the United Arab Emirates, and Vietnam: Investigation Nos. 701-TA-549 and 731-TA-1299-1300 and 1302-1303 (Final).

By order of the Commission.
Issued: December 12, 2016.
Lisa R. Barton,
Secretary to the Commission.

[FR Doc. 2016-30250 Filed 12-15-16; 8:45 am]

BILLING CODE 7020-02-P